DEPARTMENT OF HOMELAND SECURITY

Coast Guard

33 CFR Part 100

[CGD05-05-130]

RIN 1625-AA08

Special Local Regulations for Marine Events; Chesapeake Bay; Correction

AGENCY: Coast Guard, DHS.

ACTION: Temporary final rule; correction.

SUMMARY: The Coast Guard published a document in the Federal Register on March 9, 2006 (71 FR 12132), establishing special local regulations during the “Volvo Ocean Race 2005-2006”, sailboat races to be held on the Chesapeake Bay in the vicinity east of Gibson Island, Maryland, and near the William Preston Lane Jr. Memorial (Chesapeake Bay) Bridge. The document contained incorrect coordinates to describe the regulated area.

DATES: The correction to this rule is effective April 29, 2006. The rule itself is effective April 29 through May 7, 2006.

FOR FURTHER INFORMATION CONTACT: Dennis Sens, Recreational Boating Safety Specialist, Fifth Coast Guard District, telephone 757-398-6204, Fax 757-398-6203.

SUPPLEMENTARY INFORMATION: In FR Doc. 06-2204 appearing on page 12132 in the Federal Register of March 9, 2006, the following correction is made:

PART 100—[AMENDED]

§ 100.35-T05-130 [Corrected]

1. On page 12134, in the third column, and on page 12135, in the first column, in § 100.35-T05-130 Chesapeake Bay, near Annapolis, MD, in amendment (2), revise paragraph (a)(2) to read as follows: “(2) The second segment for the “Leg 6 Re-Start” is a rectangle-shaped area, approximately six nautical miles long and 1.5 nautical miles wide, bounded by a line drawn from a position at latitude, 38°54′21″ N, longitude 076°26′42″ W, thence easterly to a position at latitude 38°53′42″ N, longitude 076°24′48″ W, thence northerly to a position at latitude 38°59′40″ N, longitude 076°21′42″ W, thence westerly to a position at latitude 39°00′05″ N, longitude 076°23′33″ W, thence southerly to a position at latitude 38°54′21″ N, longitude 076°26′42″ W, the point of origin. The spectator areas will be designated around the perimeter of the race course and marked by picket boats and inflatable buoys. No spectators will be allowed within the actual race course.

S.G. Venckus,
Chief, Office of Regulations and Administrative Law.

[FR Doc. 06-3713 Filed 4-18-06; 8:45 am]

BILLING CODE 4910-15-U